DEPARTMENT OF HEALTH AND HUMAN SERVICES

Centers for Medicare & Medicaid Services

42 CFR Parts 412 and 413

[CMS-1470-P]

RIN 0938-AL89

Medicare Program; Proposed Changes to the Hospital Inpatient Prospective Payment Systems and Fiscal Year 2004 Rates

Correction

In the issue of Wednesday, June 4, 2003, on page 33579, in the second column, in the correction of rule document 03-11966, in the third line, “July 15, 2003” should read “July 8, 2003”.

[FR Doc. C3-11966 Filed 6-6-03; 8:45 am]

BILLING CODE 1505-01-D